DEPARTMENT OF TRANSPORTATION

Federal Aviation Administration

14 CFR Part 39

[Docket No.2003-NM-58-AD]

RIN 2120-AA64

Airworthiness Directives; McDonnell Douglas Model DC-9-14, DC-9-15, DC-9-15F, DC-9-31, DC-9-32, DC-9-32 (VC-9C), DC-9-33F, DC-9-34, DC-9-34F, DC-9-33F, and DC-9-32F (C-9A, C-9B) Airplanes; and DC-9-20, DC-9-40, and DC-9-50 Series Airplanes

AGENCY: Federal Aviation Administration, DOT.

ACTION: Notice of proposed rulemaking (NPRM).

SUMMARY: This document proposes the supersedure of an existing airworthiness directive (AD), applicable to certain McDonnell Douglas Model DC-9 series airplanes, that currently requires replacing the transformer ballast assembly in the pilot's console with a new, improved ballast assembly. This action would expand the applicability of the existing AD to include additional airplanes. In addition, this action would provide an optional method for accomplishing the requirements of the existing AD. The actions specified by the proposed AD are intended to prevent overheating of the ballast transformers due to aging fluorescent tubes that cause a higher power demand on the ballast transformers, which could result in smoke in the cockpit. This action is intended to address the identified unsafe condition.

DATES: Comments must be received by January 22, 2004.

ADDRESSES: Submit comments in triplicate to the Federal Aviation Administration (FAA), Transport Airplane Directorate, ANM-114, Attention: Rules Docket No. 2003-NM-58-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2003-NM-58-AD” in the subject line and need not be submitted in triplicate. Comments sent via the Internet as attached electronic files must be formatted in Microsoft Word 97 or 2000 or ASCII text.

The service information referenced in the proposed rule may be obtained from Boeing Commercial Aircraft Group, Long Beach Division, 3855 Lakewood Boulevard, Long Beach, California 90846, Attention: Data and Service Management, Dept. C1-L5A (D800-0024). This information may be examined at the FAA, Transport Airplane Directorate, 1601 Lind Avenue, SW., Renton, Washington.

FOR FURTHER INFORMATION CONTACT: Elvin K. Wheeler, Aerospace Engineer, Systems and Equipment Branch, ANM-130L, FAA, Los Angeles Aircraft Certification Office, 3960 Paramount Boulevard, Lakewood, California 90712-4137; telephone (562) 627-5344; fax (562) 627-5210.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2003-NM-58-AD.” The postcard will be date stamped and returned to the commenter.

Availability of NPRMs

Any person may obtain a copy of this NPRM by submitting a request to the FAA, Transport Airplane Directorate, ANM-114, Attention: Rules Docket No. 2003-NM-58-AD, 1601 Lind Avenue, SW., Renton, Washington 98055-4056.

Discussion

On December 26, 2001, the FAA issued AD 2001-26-24, amendment 39-12590 (67 FR 497, January 4, 2002), applicable to certain McDonnell Douglas Model DC-9 series airplanes, to require replacement of the transformer ballast assembly in the pilot's console with a new, improved ballast assembly. That action was prompted by instances of smoke emanating from the ballast transformers of the cockpit fluorescent lights. The requirements of that AD are intended to prevent overheating of the ballast transformers due to aging fluorescent tubes that cause a higher power demand on the ballast transformers, which could result in smoke in the cockpit.

Actions Since Issuance of Previous Rule

Since the issuance of that AD, the FAA has reviewed and approved Boeing Alert Service Bulletin DC9-33A114, Revision 03, dated January 16, 2003. The replacement procedure described in Revision 03 is essentially identical to that in Revision 01 of the service bulletin, which was referenced in AD 2001-26-24 as the appropriate source of service information for accomplishing the required actions in that AD. However, Revision 03 of the service bulletin adds additional airplanes to the effectivity listing that are subject to the identified unsafe condition. In addition, Revision 03 of the service bulletin provides for modification of the transformer ballast assembly as an option to replacement of the assembly as required in AD 2001-26-24. Accomplishment of the actions specified in these service bulletins is intended to adequately address the identified unsafe condition.

Boeing Alert Service Bulletin DC9-33A114, Revision 03, refers to Elektronika, Inc. Product Improvement Service Bulletin 33-EKA0199-BPC, Revision D, dated November 25, 2002, as an additional source of service information for accomplishment of the modification of the transformer ballast assembly for McDonnell Douglas Model DC-9 series airplanes.

Explanation of Requirements of Proposed Rule

Since an unsafe condition has been identified that is likely to exist or develop on other products of this same type design, the proposed AD would supersede AD 2001-26-24 to continue to require replacement of the transformer ballast assembly in the pilot's console with a new, improved ballast assembly. In addition, the proposed AD would expand the applicability of the existing AD to include additional airplanes. The proposed AD would also provide for modification of the transformer ballast assembly as an option to the replacement of the assembly for McDonnell Douglas Model DC-9 series airplanes. The actions would be required to be accomplished in accordance with the service bulletin described previously, except as discussed below.

Explanation of Change to Applicability

In addition to referencing the service bulletin described above, the FAA has revised the applicability of the existing AD to identify model designations as published in the most recent type certificate data sheet.

Cost Impact

There are approximately 575 airplanes of the affected design in the worldwide fleet. The FAA estimates that 477 airplanes of U.S. registry would be affected by this proposed AD.

The replacement that is currently required by AD 2001-26-24 and also proposed as an option in this AD action takes approximately 1 work hour per airplane to accomplish, at an average labor rate of $65 per work hour. Required parts cost approximately between $1,379 and $1,860 per airplane. Based on these figures, the cost impact of the replacement on U.S. operators is estimated to be between $688,788 and $918,225, or between $1,444 and $1,925 per airplane.

The new optional modification that is proposed in this AD action would take approximately 2 work hours per airplane to accomplish, at an average labor rate of $65 per work hour. Required parts would cost approximately $4,472 per airplane. Based on these figures, the cost impact of the proposed requirements of this AD on U.S. operators is estimated to be $4,602 per airplane.

The cost impact figures discussed above are based on assumptions that no operator has yet accomplished any of the current or proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-12590 (67 FR 497, January 4, 2002), and by adding a new airworthiness directive (AD), to read as follows:

McDonnell Douglas: Docket 2003-NM-58-AD. Supersedes AD 2001-26-24, Amendment 39-12590.

Applicability: Model DC-9-14, DC-9-15, DC-9-15F, DC-9-31, DC-9-32, DC-9-32 (VC-9C), DC-9-33F, DC-9-34, DC-9-34F, DC-9-33F, and DC-9-32F (C-9A, C-9B) airplanes; and DC-9-20, DC-9-40, and DC-9-50 series airplanes; as listed in Boeing Alert Service Bulletin DC9-33A114, Revision 03, dated January 16, 2003; certificated in any category.

Compliance: Required as indicated, unless accomplished previously.

To prevent overheating of the ballast transformers due to aging fluorescent tubes that cause a higher power demand on the ballast transformers, which could result in smoke in the cockpit, accomplish the following:

Replacement or Modification

(a) Replace the transformer ballast assembly from the pilot's console with a new, improved ballast assembly per the Work Instructions in McDonnell Douglas Alert Service Bulletin DC9-33A114, Revision 01, dated February 15, 2000; or the Accomplishment Instructions in Boeing Alert Service Bulletin DC9-33A114, Revision 03, dated January 16, 2003; or modify the existing ballast transformer assembly per the Accomplishment Instructions in Boeing Alert Service Bulletin DC9-33A114, Revision 03, dated January 16, 2003; at the applicable time specified in paragraph (a)(1) or (a)(2) of this AD.

Note 1: Boeing Alert Service Bulletin DC9-33A114, Revision 03, refers to Elektronika, Inc. Product Improvement Service Bulletin 33-EKA0199-BPC, Revision D, dated November 25, 2002, as an additional source of service information for accomplishment of the modification of the transformer ballast assembly for McDonnell Douglas Model DC-9 series airplanes.

(1) For airplanes listed in McDonnell Douglas Alert Service Bulletin DC9-33A114, Revision 01, dated February 15, 2000: Within 12 months after February 8, 2002 (the effective date of AD 2001-26-24, amendment 39-12590).

(2) For airplanes having fuselage numbers 1039 and 1046: Within 12 months after the effective date of this AD.

Parts Installation

(b) As of the effective date of this AD, no person shall install a transformer assembly, part number BA170-1, -11, -21, or -MOD.B, on any airplane.

Prior Replacements

(c) Replacements accomplished before the effective date of this AD per McDonnell Douglas Alert Service Bulletin DC9-33A114, Revision 02, dated March 19, 2002, are considered acceptable for compliance with the corresponding action specified in this AD.

Alternative Methods of Compliance

(d)(1) In accordance with 14 CFR 39.19, the Manager, Los Angeles Aircraft Certification Office (ACO), FAA, is authorized to approve alternative methods of compliance (AMOCs) for this AD.

(2) Alternative methods of compliance, approved previously per AD 2001-26-24, amendment 39-12590, are approved as alternative methods of compliance with this AD.

Issued in Renton, Washington, on December 1, 2003.
Ali Bahrami,
Acting Manager, Transport Airplane Directorate, Aircraft Certification Service.

[FR Doc. 03-30335 Filed 12-5-03; 8:45 am]

BILLING CODE 4910-13-P